Executive Order 14278 of April 23, 2025

Preparing Americans for High-Paying Skilled Trade Jobs of the Future

By the authority vested in me as President by the Constitution and the laws of the United States of America, it is hereby ordered:

Section 1. Purpose. To maximize my Administration's historic investments in America's reindustrialization and economic growth, my Administration will fully equip the American worker to produce world-class products and implement world-leading technologies. My Administration will also consolidate and streamline fragmented Federal workforce development programs that are too disconnected from propelling workers into secure, well-paying, and high-need American jobs.

Sec. 2. Policy. It is the policy of the United States to optimize and target Federal investments in workforce development to align with our country's reindustrialization needs and equip American workers to fill the growing demand for skilled trades and other occupations. My Administration will further protect and strengthen Registered Apprenticeships and build on their successes to seize new opportunities and unlock the limitless potential of the American worker.

Sec. 3. Comprehensive Worker Investment and Development Strategy. Within 90 days of the date of this order, the Secretary of Labor, the Secretary of Commerce, and the Secretary of Education shall review all Federal workforce development programs and submit to the Assistant to the President for Domestic Policy and the Director of the Office of Management and Budget a report setting forth strategies to help the American worker. That report shall identify the following:

(a) Opportunities to integrate systems and realign resources to address critical workforce needs and in-demand skills of emerging industries and companies investing in the United States as determined, to the extent permissible by law, by prospective employers. The report shall include:

(i) administrative reforms to agency policies and programmatic requirements;

(ii) process improvements to better the experience for program participants; and

(iii) recommendations to further restructure and consolidate programs.

(b) Federal workforce development and education programs, or related spending within these programs, that are ineffective or otherwise fail to achieve their desired outcomes. Each identified program should be accompanied by a proposal to reform the program, redirect its funding, or eliminate it.

(c) Available statutory authorities to promote innovation and system integration in pursuit of better employment and earnings outcomes for program participants.

(d) Opportunities to invest in the upskilling of incumbent workers to meet rapidly evolving skill demands of their industries, including the use of Artificial Intelligence in the workplace.

(e) Strategies to identify alternative credentials and assessments to the 4-year college degree that can be mapped to the specific skill needs of prospective employers.

(f) Efficiencies to streamline information collection, including through:

(i) harmonizing performance measures;

(ii) reducing the burden on grantees; and

(iii) ensuring that performance outcomes are measured using the most reliable data sources.

Sec. 4. Expanding Registered Apprenticeships. Within 120 days of the date of this order, the Secretary of Labor, the Secretary of Commerce, and the Secretary of Education shall submit to the Assistant to the President for Domestic Policy and the Director of the Office of Management and Budget a plan to reach and surpass 1 million new active apprentices. That plan shall identify the following:

(a) Avenues to expand Registered Apprenticeships to new industries and occupations, including high-growth and emerging sectors.

(b) Measures to scale this proven model across the country, improve its efficiency, and provide consistent support to program participants.

(c) Opportunities, including through the Carl D. Perkins Career and Technical Education (Perkins V) Act and Federal student aid, to enhance connections between the education system and Registered Apprenticeships.

Sec. 5. Delivering Unprecedented Transparency and Accountability. The Secretary of Labor, the Secretary of Commerce, and the Secretary of Education shall improve transparency on the performance outcomes of workforce development programs and credentials supported through Federal investments, including earnings and employment data, for all Federal workforce development programs.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 23, 2025.

[FR Doc. 2025-07369

Filed 4-25-25; 8:45 am]

Billing code 3395-F4-P